DEPARTMENT OF ENERGY

Federal Energy Regulatory Commission

[Docket No. EL23-12-000]

Basin Electric Power Cooperative; Notice of Institution of Section 206 Proceeding and Refund Effective Date

On December 19, 2022, the Commission issued an order in Docket No. EL23-12-000, pursuant to section 206 of the Federal Power Act (FPA), 16 U.S.C. 824e, instituting an investigation into whether Basin Electric Power Cooperative's revised proposed 2023 Rate Schedule A is unjust, unreasonable, unduly discriminatory or preferential, or otherwise unlawful and to establish a refund effective date.¹ Basin Electric Power Cooperative, 181 FERC ¶ 61,241 (2022).

¹ The section 206 investigation will extend to any affiliate of Basin Electric Power Cooperative with market-based rate authorization.

The refund effective date in Docket No. EL23-12-000, established pursuant to section 206(b) of the FPA, will be the date of publication of this notice in the Federal Register.

Any interested person desiring to be heard in Docket No. EL23-12-000 must file a notice of intervention or motion to intervene, as appropriate, with the Federal Energy Regulatory Commission, in accordance with Rule 214 of the Commission's Rules of Practice and Procedure, 18 CFR 385.214 (2021), within 21 days of the date of issuance of the order.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Dated: December 21, 2022.
Kimberly D. Bose,
Secretary.

[FR Doc. 2022-28257 Filed 12-27-22; 8:45 am]

BILLING CODE 6717-01-P